DEPARTMENT OF COMMERCE

International Trade Administration

[A-274-808, A-821-831]

Urea Ammonium Nitrate Solutions From the Republic of Trinidad and Tobago and the Russian Federation: Postponement of Preliminary Determinations in the Less-Than-Fair-Value Investigations

AGENCY: Enforcement and Compliance, International Trade Administration, Department of Commerce.

DATES: Applicable November 23, 2021.

FOR FURTHER INFORMATION CONTACT: Lilit Astvatsatrian at (202) 482-6412 (the Republic of Trinidad and Tobago (Trinidad and Tobago)); or Krisha Hill at (202) 482-4037 or Drew Jackson at (202) 482-4406 (the Russian Federation (Russia)); AD/CVD Operations, Enforcement and Compliance, International Trade Administration, U.S. Department of Commerce, 1401 Constitution Avenue NW, Washington, DC 20230.

SUPPLEMENTARY INFORMATION:

Background

On July 20, 2021, the Department of Commerce (Commerce) initiated less-than-fair-value (LTFV) investigations of imports of urea ammonium nitrate solutions (UAN) from Trinidad and Tobago and Russia.¹ Currently, the preliminary determinations are due no later than December 7, 2021.

¹ See Urea Ammonium Nitrate Solutions from the Russian Federation and the Republic of Trinidad and Tobago: Initiation of Less-Than-Fair-Value Investigations, 86 FR 40008 (July 26, 2021).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is CF Industries Nitrogen, LLC and its subsidiaries, Terra Nitrogen, Limited Partnership and Terra International (Oklahoma) LLC (collectively, the petitioner).

On October 26, 2021, the petitioner submitted timely requests that Commerce postpone the preliminary determinations in the LTFV investigations of UAN from Trinidad and Tobago and Russia.³ The petitioner requested postponement of these LTFV investigations so that Commerce could further develop the records and to allow interested parties to examine and comment on the records.⁴

³ See Petitioner's Letter, “Urea Ammonium Nitrate Solutions from the Russian Federation (A-821-831): Petitioner's Request for Postponement of Preliminary Determination,” dated October 26, 2021; see also Petitioner's Letter, “Urea Ammonium Nitrate Solutions from the Republic of Trinidad and Tobago (A-274-808): Petitioner's Request for Postponement of Preliminary Determination,” dated October 26, 2021.

⁴ Id.

For the reasons stated above, and because there are no compelling reasons to deny the requests, Commerce, in accordance with section 733(c)(1)(A) of the Act, is postponing the deadline for the preliminary determinations in the LTFV investigations of UAN from Trinidad and Tobago and Russia by 50 days (i.e., 190 days after the date on which these investigations were initiated). As a result, Commerce will issue its preliminary determinations in the LTFV investigations of UAN from Trinidad and Tobago and Russia no later than January 26, 2022. In accordance with section 735(a)(1) of the Act and 19 CFR 351.210(b)(1), the deadline for the final determinations in these investigations will continue to be 75 days after the date of the preliminary determinations, unless postponed at a later date.

Notification to Interested Parties

This notice is issued and published pursuant to section 733(c)(2) of the Act and 19 CFR 351.205(f)(1).

Dated: November 16, 2021.
Ryan Majerus,
Deputy Assistant Secretary for Policy and Negotiations, Performing the Non-Exclusive Functions and Duties of the Assistant Secretary for Enforcement and Compliance.

[FR Doc. 2021-25457 Filed 11-22-21; 8:45 am]

BILLING CODE 3510-DS-P